SMALL BUSINESS ADMINISTRATION

[Declaration of Disaster #3320, Amendment #5]

State of Washington

In accordance with a notice received from the Federal Emergency Management Agency, dated April 19, 2001, the above-numbered Declaration is hereby amended to include Chelan and Kittitas counties in the State of Washington as disaster areas due to damages caused by the earthquake beginning on February 28, 2001 and continuing through March 16, 2001. In addition the Declaration is hereby amended to extend the deadline for filing applications for physical damages as a result of this disaster to May 31, 2001.

In addition, applications for economic injury loans from small businesses located in Douglas County in the State of Washington may be filed until the specified date at the previously designated location. Any counties contiguous to the above named primary counties and not listed here have been previously declared.

All other information remains the same, i.e., the deadline for filing applications for economic injury the deadline is November 30, 2001.

(Catalog of Federal Domestic Assistance Program Nos. 59002 and 59008)
Dated: April 19, 2001.
James E. Rivera,
Acting Associate Administrator for Disaster Assistance.

[FR Doc. 01-10672 Filed 4-27-01; 8:45 am]

BILLING CODE 8025-01-P